ENVIRONMENTAL PROTECTION AGENCY

[FRL-6569-3]

Agency Information Collection Activities: Proposed Collection; Comment Request; ICRs Planned To Be Submitted

AGENCY: Environmental Protection Agency (EPA).

ACTION: Notice.

SUMMARY: In compliance with the Paperwork Reduction Act (44 U.S.C. 3501 et seq.), this document announces that EPA is planning to submit the following 5 continuing Information Collection Requests (ICR) to the Office of Management and Budget (OMB). Before submitting the ICRs to OMB for review and approval, EPA is soliciting comments on specific aspects of the information collections as described at the beginning of Supplementary Information.

DATES: Comments must be submitted on or before May 30, 2000.

ADDRESSES: U.S. EPA, 1200 Pennsylvania Avenue, Mail Code 2223A, Washington, D.C. 20460. A hard copy of an ICR may be obtained without charge by calling the identified information contact individual for each ICR in section B of the Supplementary Information.

FOR FURTHER INFORMATION CONTACT: For specific information on the individual ICRs see section B of the Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

In general, the required information consists of emissions data and other information deemed not to be private. However, any information submitted to the Agency for which a claim of confidentiality is made will be safeguarded according to the Agency policies set forth in Title 40, Chapter 1, part 2, subpart B—Confidentiality of Business Information (see 40 CFR part 2; 41 FR 36902, September 1, 1976; amended by 43 FR 39999, September 8, 1978; 43 FR 42251, September 28, 1978; 44 FR 17674, March 23, 1979).

A. List of ICRs Planned To Be Submitted

In compliance with the Paperwork Reduction Act (44 U.S.C. 3501 et seq.), this document announces that EPA is planning to submit the following five continuing Information Collection Requests (ICR) to the Office of Management and Budget (OMB):

(1) NSPS Smelter Regulations Including: NSPS subpart M, Secondary Brass and Bronze Production Plants; NSPS Subpart P, Primary Copper Smelters; NSPS Subpart Q, Primary Zinc Smelters; NSPS Subpart R, Primary Lead Smelters; NSPS Subpart S; Primary Aluminum Production Plants; and NSPS Subpart Z, Ferroalloy Production Facilities. EPA ICR Number No.1604.06. OMB Control No. 2060-0110. Expiration date September 30, 2000.

(2) NSPS Subpart AAA; Standards of Performance for New Stationary Sources, New Residential Wood Heaters. EPA ICR Number 1176. OMB Control Number 2060-0161. Expiration Date: September 30, 2000.

(3) NSPS Subpart SSS, Magnetic Tape Coating Facilities. EPA ICR Number 1135. OMB Control Number 2060-0171. Expiration Date: September 30, 2000.

(4) MACT subpart DDD, Mineral Wool Production. EPA ICR No. 1799, OMB Control No. 2060-0362. Expiration Date: July 31, 2000.

(5) MACT subpart GGG; Pharmaceuticals Production. EPA ICR No. 1781.01. OMB Control No. 2060-0357. Expiration Date: July 31, 2000.

B. Contact Individuals for ICRs

(1) NSPS Smelter Regulations Including: NSPS subpart M, Secondary Brass and Bronze Production Plants; NSPS Subpart P, Primary Copper Smelters; NSPS Subpart Q, Primary Zinc Smelters; NSPS Subpart R, Primary Lead Smelters; NSPS Subpart S; Primary Aluminum Production Plants; and NSPS Subpart Z, Ferroalloy Production Facilities. Deborah Thomas at (202) 564-5041 or via E-mail at thomas.deborah@epa.gov. EPA ICR Number No. 1604.06. OMB Control No. 2060-0110. Expiration Date: September 30, 2000.

(2) NSPS Subpart AAA, New Residential Wood Heaters. Bob Marshall at (202) 564-7021 or via e-mail at marshall.robert@epa.gov. EPA ICR Number 1176. OMB Control Number 2060-0161. Expiration Date: September 30, 2000.

(3) NSPS Subpart SSS, Magnetic Tape Coating Facilities. Anthony Raia at (202) 564-6045 or via e-mail at raia.anthony@epa.gov. EPA ICR Number 1135. OMB Control Number 2060-0171. Expiration Date: September 30, 2000.

(4) MACT subpart DDD, Mineral Wool Production. Gregory Fried at (202) 564-7016/(202) 564-0050 (fax) or via e-mail at fried.gregory@epa.gov. OMB Control No. 2060-0362, EPA ICR No. 1795. Expiration Date: July 31, 2000.

(5) MACT subpart GGG; Pharmaceuticals Production. Marcia B. Mia, phone number, 202-564-7042; facsimile, 202-564-0009; or by e-mail at mia.marcia@epamail.epa.gov. EPA ICR No. 1781.01. OMB Control No. 2060-0357. Expiration Date: July 31, 2000.

C. Individual ICRs

Smelters

(1) NSPS Smelter Regulations Including: NSPS subpart M, Secondary Brass and Bronze Production Plants; NSPS Subpart P, Primary Copper Smelters; NSPS Subpart Q, Primary Zinc Smelters; NSPS Subpart R, Primary Lead Smelters; NSPS Subpart S; Primary Aluminum Production Plants; and NSPS Subpart Z, Ferroalloy Production Facilities. EPA ICR Number No. 1604.06. OMB Control No. 2060-0110. Expiration date: September 30, 2000.

This ICR will combine the ICRs for several related smelter ICRs. The EPA number and OMB number for NSPS subpart M, Brass and Bronze will be retained for the entire collection.

Brass and Bronze

Affected Entities: Entities potentially affected by this action are Secondary Brass and Bronze Production Plants that commenced construction, modification, or reconstruction after the date of proposal (June 11, 1973). Specifically, the affected facilities in each brass and bronze plant are any reverberatory and electric furnaces of 1,000 kg (2205 lb) or greater production capacity and blast (cupola) furnaces of 250 kg/h (550 lb/h) or greater production capacity. This subpart does not apply to furnaces from which molten brass or bronze are cast into the shape of finished products, such as foundry furnaces.

Abstract: Secondary brass and bronze production plants emit metallic particulate matter in quantities that, in the Administrator's judgement, cause or contribute to air pollution that may endanger public health or welfare. Consequently, New Source Performance Standards were promulgated for this source category. These standards rely on the proper installation, operation and maintenance of particulate control devices such as fabric filters or electrostatic precipitators.

In order to ensure compliance with the standards, adequate recordkeeping and reporting is necessary. This information enables the Agency to: (1) Identify the sources subject to the standard; (2) ensure initial compliance with emission limits; and (3) verify continuous compliance with the standard. Specifically, the rule requires an application for approval of construction, notification of startup, notification and report of the initial emissions test, and notification of any physical or operational change that may increase the emission rate. In addition, sources are required to keep records of all startups, shutdowns, and malfunctions.

In the absence of such information collection requirements, enforcement personnel would be unable to determine whether the standards are being met on a continuous basis, as required by the Clean Air Act. Consequently, these information collection requirements are mandatory, and the records required by this NSPS must be retained by the owner or operator for two years.

Industry Burden Statement: In the previously approved ICR, the average annual burden to industry to meet these record-keeping and reporting requirements was estimated at 7.5 person-hours. This is based on an estimated 5 respondents. This is because virtually all reporting requirements apply to new facilities only, and no new facilities at secondary brass or bronze plants are expected to be constructed over the next three years. There is a chance that some existing facility might need to report a physical or operational change; however, these reports are very rare, and might only involve one facility over the three-year period.

Primary Copper Smelters, Primary Zinc Smelters, and Primary Lead Smelters

Affected Entities: Entities potentially affected by this action are Primary Copper Smelters, Primary Lead Smelters, and Primary Zinc Smelters that commenced construction, modification, or reconstruction after the date of proposal (October 16, 1974). The affected facilities in each primary copper smelter are each dryer, roaster, smelting furnace or copper converter. The affected facilities in each primary lead smelter are each sintering machine, sintering machine discharge end, blast furnace, dross reverberatory furnace, electric smelting furnace and converter. The affected facilities in each primary zinc smelter are each roaster and sintering machine.

Abstract: Primary copper, lead and zinc smelters emit metallic particulate matter and sulfur dioxide in quantities that, in the Administrator's judgement, cause or contribute to air pollution that may endanger public health or welfare. Consequently, New Source Performance Standards were promulgated for this source category. These standards rely on the proper installation, operation and maintenance of particulate control devices such as scrubbers or electrostatic precipitators.

In order to ensure compliance with the standards, adequate recordkeeping and reporting is necessary. This information enables the Agency to: (1) Identify the sources subject to the standard; (2) ensure initial compliance with emission limits; and (3) verify continuous compliance with the standard. Specifically, the rule requires an application for approval of construction, notification of startup, notification and report of the initial emissions test, and notification of any physical or operational change that may increase the emission rate. In addition, sources are required to keep daily records of average sulphur dioxide concentrations, and records of all startups, shutdowns, and malfunctions. Excess emissions must be reported semi-annually. For copper smelters only, owners or operators must keep monthly records of the smelter charge rate and weight percent (dry basis) of arsenic, antimony, lead and zinc.

In the absence of such information collection requirements, enforcement personnel would be unable to determine whether the standards are being met on a continuous basis, as required by the Clean Air Act. Consequently, these information collection requirements are mandatory, and the records required by this NSPS must be retained by the owner or operator for two years.

Industry Burden Statement: In the previously approved ICR, the average annual burden to industry to meet these recordkeeping and reporting requirements was estimated at 1445 person-hours. This is based on an estimated 15 respondents. No new smelters are expected to be constructed over the next three years. The estimate includes daily and monthly recordkeeping as well as records of startup, shutdown, and malfunction events, Since there are no new sources anticipated, the only reporting burden for this industry is the semi-annual reporting of excess emissions which is estimated at 8 hours per report.

Aluminum Reduction Plants

Affected Entities: Entities potentially affected by this action are Primary Aluminum Production Plants that commenced construction, modification, or reconstruction after the date of proposal (October 23, 1974). The affected facilities in each aluminum production plant are potroom groups and anode bake plants.

Abstract: Primary aluminum reduction plants emit gaseous hydrogen fluoride and particulate fluorides, alumina, carbon monoxide, volatile organic compounds and sulfur dioxide in quantities that, in the Administrator's judgement, cause or contribute to air pollution that may endanger public health or welfare. Consequently, New Source Performance Standards were promulgated for this source category. These standards rely on the proper installation, operation and maintenance of particulate control devices such as scrubbers or electrostatic precipitators.

In order to ensure compliance with the standards, adequate recordkeeping and reporting is necessary. This information enables the Agency to: (1) Identify the sources subject to the standard; (2) ensure initial compliance with emission limits; and (3) verify continuous compliance with the standard. Specifically, the rule requires an application for approval of construction, notification of startup, notification and report of the initial emissions test, and notification of any physical or operational change that may increase the emission rate. In addition, sources are required to keep records of all startups, shutdowns, and malfunctions.

In the absence of such information collection requirements, enforcement personnel would be unable to determine whether the standards are being met on a continuous basis, as required by the Clean Air Act. Consequently, these information collection requirements are mandatory, and the records required by this NSPS must be retained by the owner or operator for two years.

Industry Burden Statement: In the previously approved ICR, the average annual burden to industry to meet these recordkeeping and reporting requirements was estimated at 4,365 person-hours. This is based on an estimated 6 respondents. No new plants or potlines are expected to be constructed over the next three years.

Ferroalloy Production Plants

Affected Entities: Entities potentially affected by this action are Ferroalloy Production Facilities that commenced construction, modification, or reconstruction after the date of proposal (October 21, 1974). The affected facilities in each ferroalloy production plant are: electric submerged arc furnaces that produce silicon metal, ferrosilicon, calcium silicon, silicomanganese zirconium, ferrochrome silicon, silvery iron, high-carbon ferrochrome, charge chrome, standard ferromanganese, silicomanganese, ferromanganese silicon, or calcium carbide; and dust-handling equipment.

Abstract: Ferroalloy Production Facilities emit particulate matter and carbon monoxide in quantities that, in the Administrator's judgement, cause or contribute to air pollution that may endanger public health or welfare. Consequently, New Source Performance Standards were promulgated for this source category. These standards rely on the proper installation, operation and maintenance of particulate control devices such as scrubbers, filters or electrostatic precipitators.

In order to ensure compliance with the standards, adequate recordkeeping and reporting is necessary. This information enables the Agency to: (1) Identify the sources subject to the standard; (2) ensure initial compliance with emission limits; and (3) verify continuous compliance with the standard. Specifically, the rule requires an application for approval of construction, notification of startup, notification and report of the initial emissions test, and notification of any physical or operational change that may increase the emission rate. In addition, sources are required to keep daily records of operating parameters and records of all startups, shutdowns, and malfunctions.

In the absence of such information collection requirements, enforcement personnel would be unable to determine whether the standards are being met on a continuous basis, as required by the Clean Air Act. Consequently, these information collection requirements are mandatory, and the records required by this NSPS must be retained by the owner or operator for two years.

Industry Burden Statement: In the previously approved ICR, the average annual burden to industry to meet these record-keeping and reporting requirements was estimated at 177 person-hours. This is based on an estimated 1 respondent. No new plants are expected to be constructed over the next three years. There is no anticipated reporting burden for this industry over the next three years as a result of these standards.

New Residential Wood Heaters

(2) NSPS Subpart AAA; Standards of Performance for New Stationary Sources, New Residential Wood Heaters. EPA ICR Number 1176. OMB Control Number 2060-0161. Expiration Date: September 30, 2000.

Affected entities: Entities potentially affected by this action are those which manufacture or sell new residential wood heaters.

Abstract: Information is supplied to the Agency under the applicable rule by emission testing laboratories, manufacturers and commercial owners (e.g., distributors, retailers).

The information supplied by manufacturers to the Agency is used: (1) To ensure that the best demonstrated technology is being used to reduce emissions from wood heaters; (2) to ensure that the wood heater tested for certification purposes is in compliance with the applicable emission standards; (3) to provide evidence that production-line wood heaters have emission performance characteristics similar to tested models and; (4) to provide assurance of continued compliance.

Manufacturers submit a notification to the Agency stating the dates of certification testing, perform the certification testing at an accredited laboratory, supply detailed component drawings including manufacturing tolerances to the Agency, reapply for certification every five years, seal/store each tested model and maintain all necessary certification test records.

For each certified model line, manufacturers are required to: (1) Submit biennially, a statement certifying that no material or dimensional changes have been made to the model line that affects emission performance; (2) affix both permanent and temporary labels to each new wood heater manufactured; (3) disclose, to the consumer, instructions for operation and maintenance of the wood heater; (4) notify the Agency that a quality assurance emission test will be conducted within one week of the mailing; (5) maintain, for each model line, records of certification test reports including raw field, laboratory, and instrument calibration data; (6) perform and document quality assurance parameter inspections conducted on assembly-line wood heaters; (7) perform and document emission audit tests performed on assembly-line wood heaters; (8) maintain records of the quantity and model type of wood heaters produced and sold; (9) maintain records and storage locations of all wood heaters exempt from certification requirements; and (10) retain for the life of the model line wood heater units tested for certification purposes.

Emission testing laboratories seeking accreditation are required to: (1) Apply to the Agency for accreditation before conducting certification tests; (2) pass a standardized proficiency test; and (3) notify the Agency prior conducting the required test.

The regulation requires currently accredited laboratories to: (1) Participate in proficiency test programs on an annual basis, (2) report within ten days the results of random compliance audits in the form of a preliminary test report, (3) report to the Agency the failure of any manufacturer to submit a wood heater for testing, (4) report any interruptions or postponements in the testing schedule and advise the Agency of the new testing date; (5) retain all certification test records and documentation; (6) retain all certification test records and associated documentation.

Commercial owners are required to maintain records of previous owners of wood heaters to enable the Agency to confirm whether the stove should be categorized as a used stove or an affected facility.

Most recordkeeping and reporting provisions of the rule consists of emissions-related data and other information not considered confidential. However, the confidentiality of certain information obtained by the Agency is safeguarded according to Agency policies set forth in Title 40, Chapter 1, part 2, subpart B—Confidentiality of Business Information (see 40 CFR part 2; 41 FR 36902, September 1, 1976: amended by 43 FR 3999, September 8, 1978; 43 FR 42251, September 20, 1987; 44 FR 17674, March 23, 1979).

Industry Burden Statement: As of August 31, 1997, there were an estimated 50 wood manufacturers producing approximately 150,000 wood heaters per year under approximately 200 certified model lines. On average, a manufacturer produced four model lines. Each manufacturer produced an average of 3,000 wood heaters per year (150,000 wood heaters/50 manufacturers), and approximately 750 wood heaters for each certified model line (3,000 wood heaters/4 model lines).

In the referenced ICR, the total recordkeeping and reporting burden for this industry equaled 7,653 person-hours per year with laboratories incurring approximately 20 percent of the total; manufacturers, 75 percent; and commercial owners, 5 percent.

The person-hours required by manufacturers, as a group, for those activities associated with labeling and inspections is 3,325 hours/year. Activities associated with the certification of new wood heater model lines, as a group, required about 1,732 hours per year; and the research stoves report, the retained stoves report and biennial reports, as a group, take an estimated 682 hours per year.

Laboratories, as a group, are required to invest approximately 732 hours per year to obtain and maintain their accreditation, and 832 hours per year documenting certification test runs.

Commercial owners (i.e., retail establishments), as a group, that sell wood heaters to the general public spend approximately 350 hours per hours maintaining the required used-stove records.

The industry expense to perform the above recordkeeping and reporting each year is estimated to be $1,348,000. This is comprised of two components: (1) The annual capital/startup costs and (2) the annual reporting and recordkeeping costs.

The total annualized capital/startup costs total approximately $528,000, and consist of the following for manufacturers; (1) certification test notification ($4,465), (2) certification test ($498,750), (3) application for certification ($18,625); and the following for laboratory accreditation: (1) application for accreditation ($1,400), (2) proficiency test ($4,726), and (3) notice of proficiency test ($35).

The annual operation and maintenance (O & M) costs total $820,000 and consist of the following for manufacturers: (1) Biennial reporting for certified model lines ($1,750), (2) cost of permanent labels ($300,000), (3) cost of temporary labels ($156,087), (4) cost of owner's manual ($35,010), (5) quality assurance emission test notification ($2,800), (6) test documentation and emissions test ($171,068), (7) quality assurance parameter inspections ($70,020), (8) research stove reports, retained stoves recordkeeping ($22,126). For laboratories, the O & M cost include: (1) the annual proficiency test ($18,905), (2) rescheduling of the proficiency test ($560), and (3) records of the certification test runs performed ($29,128). For commercial owners, the recordkeeping costs are estimated to be ($12,253).

The costs to the respondents are based on average salary rate of $16.23 per hour plus 110 percent overhead (i.e., total of $34.08 per hour).

Magnetic Tape Coating Facilities

(3) NSPS Subpart SSS, Magnetic Tape Coating Facilities. EPA ICR Number 1135. OMB Control Number 2060-0171. Expiration Date: September 30, 2000.

Affected entities: Entities potentially affected by this action are those magnetic tape manufacturing facilities (which perform each coating operations) for which construction, modification or reconstruction commenced after January 22, 1986.

Abstract: The Administrator has judged that VOC emissions from magnetic tape coating facilities cause or contribute to air pollution that may reasonably be anticipated to endanger public health or welfare. Owners/operators of magnetic tape coating facilities must notify EPA of construction, modification, startups, shut downs, date and results of initial performance test and provide semiannual reports of excess emissions. In order to ensure compliance with the standards promulgated to protect public health, adequate reporting and recordkeeping is necessary. In the absence of such information enforcement personnel would be unable to determine whether the standards are being met on a continuous basis, as required by the Clean Air Act.

Industry Burden Statement: The annual public reporting and recordkeeping burden for this collection of information is estimated to average 3982.2 hours. The total annualized cost burden for this collection of information is estimated to be $139,377. The proposed frequency of response is 2, and the estimated number of likely respondents is 14.

(4) MACT subpart DDD, Mineral Wool Production. EPA ICR No. 1799, OMB Control No. 2060-0362, Expiration Date: July 31, 2000.

Affected Entities: Entities potentially affected by this action are mineral wool production facilities that emit or have the potential to emit any single HAP at a rate of 10 tons or more per year or any combination of HAPs at a rate of 25 tons or more per year. The rule applies to each cupola and/or curing oven at these facilities and to any new, modified, or reconstructed facilities.

Abstract: The MACT for mineral wool production was proposed on May 8, 1997 and promulgated on June 1, 1999. Owners or operators of mineral wool production facilities are required to comply with the notification, reporting, and recordkeeping requirements for MACT standards in the NESHAP general provisions (40 CFR part 63, subpart A). The general provisions require: (1) Initial notifications (e.g, notification of applicability, notification of performance test, and notification of compliance status); (2) monitoring plans (e.g., an operations, maintenance, and monitoring plan, a startup, shutdown, and malfunction plan, and a quality improvement plan); (3) a report of performance test results; and (4) semiannual reports of deviations from established parameters. When deviation in operating parameters established during performance testing are reported, the owner or operator must report quarterly until a request to return to semiannual reporting is approved by the Administrator.

In addition to the requirements of the general provisions, subpart DDD requires owners or operators to install fabric filter bag leak detection systems and initiate corrective action procedures in the event of an operating problem. The rule also requires owners or operators to continuously monitor and record the operating temperature of each thermal incinerator. Additionally, owners or operators are required to continuously monitor and record the cupola production (melt) rate, and for facilities with affected curing ovens, monitor and record the formaldehyde content of each binder formulation used to manufacture bonded products. The NESHAP general provisions (40 CFR part 63, subpart A) requires that records be maintained for at least 5 years from the date of each record. The owner or operator must retain the records onsite for at least 2 years but may retain the records offsite for the remaining 3 years. The files may be retained on microfilm, on microfiche, on a computer, on computer disks, or on magnetic tape disks. Reports may be made on paper or on a labeled computer disk using commonly available and EPA-compatible computer software.

Burden Statement: There are 14 facilities subject to this standard. The total annual hours are estimated to be 6,107 or approximately 436 hours per facility. The total annual cost is estimated to be $196,206 or approximately $14,015 per facility per year. The following is a breakdown of burden used in this ICR. EPA estimated a 2-hour burden for notification of applicability and notification of the date of the performance test, and a 4-hour burden for the notification of compliance status. EPA estimated a 40-hour burden for each of the following plans: a startup, shutdown, and malfunction plan; an operations, maintenance, and monitoring plan; and a quality improvement plan. EPA also estimated an 16-hour burden for excess emission reports and 8-hour burdens for both startup, shutdown, and malfunction reports and reports of no excess emissions.

EPA estimated a 577-hour burden for initial performance tests and assumed that 20% of all affected facilities would require retests. Finally, EPA estimated that it would take 4½ hours to record all information required by the standard.

The total capital costs associated with monitoring equipment for 14 facilities are estimated at $309,400. This corresponds to an annual capital cost of $14,700 per year over the first 3 years. Annual operations and maintenance costs are estimated to be $5,700 per year over the first 3 years.

(5) MACT subpart GGG; Pharmaceuticals Production. EPA ICR No. 1781.01. OMB Control No. 2060-0357. Expiration Date July 31, 2000.

Affected entities: Entities potentially affected by this action are those which manufacture a pharmaceutical product; are located at a plant site that is a major source as defined in section 112(a) of the Act; and process, use or produce HAP. The standard applies to new and existing sources.

Abstract: This ICR contains recordkeeping and reporting requirements that are mandatory for compliance with 40 CFR 63.1250-63.1261, hazardous air pollutant emissions from process vents, storage vessels, wastewater systems and equipment leaks. The standards require recordkeeping and reporting to document process information related to the source's ability to comply with the standards. This information is used by the Agency to identify sources subject to the standards and to insure that the maximum achievable control is being properly applied. Respondents are owners or operators of new and existing facilities that manufacture pharmaceuticals at major sources and that use, produce or process hazardous air pollutants. Section 112 of the Clean Air Act, as amended in 1990, requires that EPA establish standards to limit emissions of hazardous air pollutants (HAPs) from stationary sources. The sources subject to these provisions emit the HAPs methanol and methylene chloride, predominately. In the Administrator's judgment, hazardous air pollutant (HAP) emissions in this industry cause or contribute to air pollution that may be reasonably anticipated to endanger public health or welfare. Therefore, NESHAPs have been promulgated for this source category as required under section 112 of the Clean Air Act.

Industry Burden Statement: There are approximately 101 facilities which must comply with these provisions. The average burden per facility per year is estimated to be 694 hours. This includes the burden for daily wastewater monitoring, and additional hours for recordkeeping, reporting and notifications related to compliance status, leak detection and repair, startup/shutdown and malfunction events, process changes, emissions exceedances, and construction/reconstruction and startups. Because this is not a new information collection, it assumes that most facilities will have already developed the recordkeeping and reporting mechanisms to maintain and report the required data except for process additions or changes. It should be noted that the Agency is not anticipating any changes in burden as the result of the settlement discussions and language changes to the rule as an outcome of the settlement with the Pharmaceutical and Research Manufacturers Association (PhRMA) and the Chemical Manufacturers Association (CMA). Those changes will be proposed in a later Federal Register document.

Dated: March 23, 2000.
Michael Stahl,
Acting Director, Office of Compliance.

[FR Doc. 00-7996 Filed 3-30-00; 8:45 am]

BILLING CODE 6560-50-P